DEPARTMENT OF HEALTH AND HUMAN SERVICES

Centers for Disease Control and Prevention

[60Day-25-0612; Docket No. CDC-2024-0083]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Well-Integrated Screening and Evaluation for Women Across the Nation (WISEWOMAN) Reporting System. The WISEWOMAN program is designed to prevent, detect, and control, hypertension and other cardiovascular disease (CVD) risk factors through services such as health coaching, and evidence informed lifestyle programs, which are tailored for individual and group behavior change.

DATES: CDC must receive written comments on or before December 24, 2024.

ADDRESSES: You may submit comments, identified by Docket No. CDC-2024-0083 by of either the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov )or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7118; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Well-Integrated Screening and Evaluation for Women Across the Nation (WISEWOMAN) Reporting System (OMB Control No. 0920-0612, Exp. 3/31/2025)—Revision—National Center for Chronic Disease and Prevention and Health Promotion (NCCDPHP), Centers for Disease Control and Prevention (CDC).

Background and Brief Description

The Well-Integrated Screening and Evaluation for Women Across the Nation (WISEWOMAN) program sponsored by the CDC, provides services to low income, uninsured, or underinsured women aged 35-64. The WISEWOMAN program is designed to prevent, detect, and control hypertension and other cardiovascular disease (CVD) risk factors through healthy behavior support services which are tailored for individual and group behavior change. The WISEWOMAN program provides services to participants who are jointly enrolled in the National Breast and Cervical Cancer Early Detection Program (NBCCEDP), which is also administered by CDC.

The WISEWOMAN program is administered by state health departments and tribal programs. In 2023, a new five-year cooperative agreement was awarded under Funding Opportunity Announcement DP23-0003, subject to the availability of funds. CDC collects two types of information from WISEWOMAN awardees. The WISEWOMAN awardee submits an electronic data file to CDC twice per year. The Minimum Data Elements (MDE) file contains data using a unique identifier with client-level information about CVD risk factors and types of healthy behavior support services for participants served by the program. The estimated burden per response for the MDE file is 25 hours. The Annual Progress Report provides a narrative summary of each awardee's objectives and the activities undertaken to meet program goals. The estimated burden per response is 16 hours.

The WISEWOMAN Program is requesting three additional years to continue data collection. The 2024 OMB Directive 15 for a combined race and ethnicity question will replace the separate race and ethnicity minimum data elements. Two MDEs are being deleted and two MDEs are being added, and a response option is being added to one MDE. There are no changes to overall burden. CDC will continue to use the information collected from WISEWOMAN awardees to support program monitoring and improvement activities, program assessment, and evaluation of program outcomes. The overall program evaluation helps to demonstrate program accomplishments and strengthen the evidence for strategy implementation for improved engagement of underserved populations. It can also determine whether the identified strategies and associated activities can be implemented at various levels within a state or tribal organization. The data collection is designed to demonstrate how WISEWOMAN can obtain CVD health outcome data on at-risk populations, promote public education about CVD risk-factors, and improve the availability of healthy behavior support services for under-served participants.

This is a Revision for the WISEWOMAN information collection (OMB Control No. 0920-0612, Exp. 03/31/2025). Participation in this information collection is required as a condition of cooperative agreement funding. There are no costs to respondents other than their time. The total estimated annual burden hours are 2,640.

Estimated Annualized Burden Hours
Type of respondents | Form name | Number of respondents | Number of responses per respondent | Average burden per response (in hrs.) | Total burden (in hrs.)
WISEWOMAN Awardees | Screening and Assessment and Lifestyle Program MDEs | 40 | 2 | 25 | 2,000
| Annual Progress Report | 40 | 1 | 16 | 640
Total |  |  |  |  | 2,640

Jeffrey M. Zirger,
Lead, Information Collection Review Office, Office of Scientific Integrity, Office of Science, Centers for Disease Control and Prevention.

[FR Doc. 2024-24921 Filed 10-24-24; 8:45 am]

BILLING CODE 4163-18-P